DEPARTMENT OF HOMELAND SECURITY

Federal Emergency Management Agency

[Docket ID FEMA-2024-0002; Internal Agency Docket No. FEMA-B-2429]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Arizona:
Maricopa | City of Glendale (23-09-1262P). | The Honorable Jerry Weiers, Mayor, City of Glendale, 9494 West Maryland Avenue, Glendale, AZ 85305. | City Hall, 5850 West Glendale Avenue, Glendale, AZ 85301. | https://msc.fema.gov/portal/advanceSearch. | Jul. 12, 2024 | 040045
Maricopa | City of Goodyear (23-09-1262P). | The Honorable Joe Pizzillo, Mayor, City of Goodyear, 1900 North Civic Square, Goodyear, AZ 85395. | Engineering and Development Services, 14455 West Van Buren Street, Suite D101, Goodyear, AZ 85338. | https://msc.fema.gov/portal/advanceSearch. | Jul. 12, 2024 | 040046
Maricopa | City of Surprise (23-09-0697P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Jun. 28, 2024 | 040053
Maricopa | Unincorporated Areas of Maricopa County (23-09-1262P). | The Honorable Jack Sellers, Chair, Board of Supervisors, Maricopa County, 301 West Jefferson Street, 10th Floor, Phoenix, AZ 85003. | Flood Control District of Maricopa County, 2801 West Durango Street, Phoenix, AZ 85009. | https://msc.fema.gov/portal/advanceSearch. | Jul. 12, 2024 | 040037
Pima | Unincorporated Areas of Pima County (23-09-1217P). | The Honorable Adelita Grijalva, Chair, Board of Supervisors, Pima County, 33 North Stone Avenue 11th Floor, Tucson, AZ 85701. | Pima County Flood Control District, 201 North Stone Avenue, 9th Floor, Tucson, AZ 85701. | https://msc.fema.gov/portal/advanceSearch. | Jul. 11, 2024 | 040073
Pinal | Town of Superior (23-09-0243P). | The Honorable Mila Besich, Mayor, Town of Superior, P.O. Box 218, Superior, AZ 85173. | Town Hall, 199 North Lobb Avenue, Superior, AZ 85173. | https://msc.fema.gov/portal/advanceSearch. | Jun. 27, 2024 | 040119
California:
Contra Costa | City of Oakley (23-09-1104P). | The Honorable Anissa Williams, Mayor, City of Oakley, 3231 Main Street, Oakley, CA 94561. | Public Works and Engineering Department, 3231 Main Street, Oakley, CA 94561. | https://msc.fema.gov/portal/advanceSearch. | Jul. 24, 2024 | 060766
Napa | Unincorporated Areas of Napa County (22-09-0692P). | The Honorable Belia Ramos, Chair, Board of Supervisors, Napa County, 1195 3rd Street, Suite 310, Napa, CA 94559. | Napa County, Public Works Department, 1195 3rd Street, Suite 101, Napa, CA 94559. | https://msc.fema.gov/portal/advanceSearch. | Jun. 26, 2024 | 060205
Riverside | Unincorporated Areas of Riverside County (22-09-1288P). | The Honorable Chuck Washington, Chair, Board of Supervisors, Riverside County, 4080 Lemon Street, 5th Floor, Riverside, CA 92501. | Riverside County, Flood Control and Water Conservation District, 1995 Market Street, Riverside, CA 92501. | https://msc.fema.gov/portal/advanceSearch. | Jul. 10, 2024 | 060245
San Diego | Unincorporated Areas of San Diego County (23-09-0964P). | The Honorable Nora Vargas, Chair, Board of Supervisors, San Diego County, 1600 Pacific Highway, Room 335, San Diego, CA 92101. | San Diego County Flood Control District, Department of Public Works, 5510 Overland Avenue, Suite 410, San Diego, CA 92123. | https://msc.fema.gov/portal/advanceSearch. | Jun. 28, 2024 | 060284
Ventura | Unincorporated Areas of Ventura County (23-09-1390P). | The Honorable Kelly Long, Chair, Board of Supervisors, Ventura County, 1203 Flynn Road, Suite 220, Camarillo, CA 93012. | Ventura County, Public Works Agency, 800 South Victoria Avenue, Ventura, CA 93009. | https://msc.fema.gov/portal/advanceSearch. | Jun. 26, 2024 | 060413
Florida: Duval | City of Jacksonville (23-04-4924P). | The Honorable Donna Deegan, Mayor, City of Jacksonville, 117 West Duval Street, Suite 400, Jacksonville, FL 32202. | Edward Ball Building Development Services, 214 North Hogan Street, Room 2100, Jacksonville, FL 32202. | https://msc.fema.gov/portal/advanceSearch. | Jul. 31, 2024 | 120077
Hawaii: Maui | Maui County (22-09-1030P). | The Honorable Richard T. Bissen, Jr., Mayor, County of Maui, 200 South High Street, Kalana O Maui Building, 9th Floor, Wailuku, HI 96793. | County of Maui Planning Department, One Main Plaza, 2200 Main Street, Suite 315, Wailuku, HI 96793. | https://msc.fema.gov/portal/advanceSearch. | Jun. 17, 2024 | 150003
Illinois:
Cook | Village of Buffalo Grove (24-05-0045P). | Eric Smith, Village President, Village of Buffalo Grove, 50 Raupp Boulevard, Buffalo Grove, IL 60089. | Public Service Center, 51 Raupp Boulevard, Buffalo Grove, IL 60089. | https://msc.fema.gov/portal/advanceSearch. | Jun. 26, 2024 | 170068
Will | Unincorporated Areas of Will County (23-05-2762P). | Jennifer Bertino-Tarrant, Will County Executive, Will County Office Building, 302 North Chicago Street, Joliet, IL 60432. | Will County Land Use Department, 58 East Clinton Street, Suite 100, Joliet, IL 60432. | https://msc.fema.gov/portal/advanceSearch. | Jun. 26, 2024 | 170695
Indiana: Marion | City of Indianapolis (23-05-1479P). | The Honorable Joe Hogsett, Mayor, City of Indianapolis, City-County Building, 200 East Washington Street, Suite 2501, Indianapolis, IN 46204. | City Hall, 1200 Madison Avenue, Suite 100, Indianapolis, IN 46225. | https://msc.fema.gov/portal/advanceSearch. | Jul. 10, 2024 | 180159
Nevada: Washoe | City of Reno (23-09-0241P). | The Honorable Hillary L. Schieve, Mayor, City of Reno, P.O. Box 1900, Reno, NV 89505. | City Hall, 1 East 1st Street, Reno, NV 89501. | https://msc.fema.gov/portal/advanceSearch. | Jul. 18, 2024 | 320020
New York: Westchester | Village of Mamaroneck (22-02-0906P). | The Honorable Sharon Torres, Mayor, Village of Mamaroneck, 123 Mamaroneck Avenue, Mamaroneck, NY 10543. | Building Inspector, The Regatta Building, 123 Mamaroneck Avenue, Mamaroneck, NY 10543. | https://msc.fema.gov/portal/advanceSearch. | Sep. 12, 2024 | 360916
Ohio:
Lorain | City of North Ridgeville (23-05-0136P). | The Honorable Kevin Corcoran, Mayor, City of North Ridgeville, City Hall, 7307 Avon Belden Road, North Ridgeville, OH 44039. | City Hall, 7307 Avon Belden Road, North Ridgeville, OH 44039. | https://msc.fema.gov/portal/advanceSearch. | Jul. 5, 2024 | 390352
Lucas | City of Toledo (23-05-2723P). | The Honorable Wade Kapszukiewicz, Mayor, City of Toledo, 1 Government Center, 640 Jackson Street, Toledo, OH 43604. | Department of Inspection, 1 Government Center, Suite 1600, Toledo, OH 43604. | https://msc.fema.gov/portal/advanceSearch. | Jul. 8, 2024 | 395373
Lucas | Unincorporated Areas of Lucas County (23-05-2723P). | Jessica Ford, Administrator, Lucas County, 1 Government Center, Suite 800, Toledo, OH 43604. | Lucas County Engineer's Office, 1049 South McCord Road, Holland, OH 43528. | https://msc.fema.gov/portal/advanceSearch. | Jul. 8, 2024 | 390359
South Carolina:
Richland | City of Columbia (23-04-4451P). | The Honorable Daniel J. Rickenmann, Mayor, City of Columbia, 1737 Main Street, Columbia, SC 29201. | Department of Utilities and Engineering, 1136 Washington Street, Columbia, SC 29201. | https://msc.fema.gov/portal/advanceSearch. | Jul. 1, 2024 | 450172
Richland | City of Forest Acres (23-04-4451P). | The Honorable Thomas Andrews, Mayor, City of Forest Acres, City Hall, 5209 North Trenholm Road, Forest Acres, SC 29206. | City Hall, 5209 North Trenholm Road, Forest Acres, SC 29206. | https://msc.fema.gov/portal/advanceSearch. | Jul. 1, 2024 | 450174
Richland | Unincorporated Areas of Richland County (23-04-4451P). | Jesica Mackey, Chair, Richland County, P.O. Box 192, Columbia, SC 29201. | Richland County, Department of Public Works, 400 Powell Road, Columbia, SC 29203. | https://msc.fema.gov/portal/advanceSearch. | Jul. 1, 2024 | 450170
Washington: Pierce | Unincorporated Areas of Pierce County (23-10-0850P). | Shannon Reynolds, Chair, Pierce County, 2401 South 35th Street, Suite 2, Tacoma, WA 98409. | Pierce County Public Works and Utilities Department, 2401 South 35th Street, Tacoma, WA 98409. | https://msc.fema.gov/portal/advanceSearch. | Jul. 30, 2024 | 530138

[FR Doc. 2024-08525 Filed 4-19-24; 8:45 am]

BILLING CODE 9110-12-P